NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 28, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-03-03, 1 item, 1 temporary item). Records relating to the Asset Management System, an electronic system containing information concerning freight containers used for shipping ammunition. Records relate to such matters as customer requirements, the movement of containers, inventories, owner registries, damage to containers, and maintenance.

2. Department of Defense, National Imagery and Mapping Agency (N1-537-03-1, 6 items, 5 temporary items). Files relating to visit arrangements and routine ceremonies. Also included are electronic copies of documents created using electronic mail and word processing. Recordkeeping copies of files relating to ceremonies of an historical nature are proposed for permanent retention.

3. Department of Defense, Defense Security Service (N1-446-03-1, 5 items, 5 temporary items). Short term records relating to information assurance activities. Included are records relating to program planning and management, network access, and operation of the agency's test laboratory. Also included are electronic copies of documents created using electronic mail and word processing. This schedule authorizes the agency to apply the proposed disposition instructions to any recordkeeping medium.

4. Department of Defense, Defense Security Service (N1-446-03-3, 6 items, 6 temporary items). Records relating to industrial security. Included are records relating to such matters as site visits, field office activities, meetings, and educational programs. Also included are electronic copies of documents created using electronic mail and word processing. This schedule authorizes the agency to apply the proposed disposition instructions to any recordkeeping medium.

5. Department of Justice, National Drug Intelligence Center (N1-523-03-1, 7 items, 7 temporary items). Software licensing agreement and disclaimer files, technology and equipment files, and computer system security backup records. Also included are electronic copies of records created using electronic mail and word processing.

6. Federal Emergency Management Agency, National Security Directorate (N1-311-03-1, 5 items, 2 temporary items). Routine administrative data contained in an electronic information system used to support continuity of government operations. Also included are electronic copies created using e-mail and word processing. Proposed for permanent retention are recordkeeping copies of briefing files and subject files relating to continuity of government operations programs as well as substantive data contained in an electronic information system.

7. National Archives and Records Administration, Office of Records Services—Washington, DC (N1-64-03-3, 3 items, 3 temporary items). Electronic and microfiche versions of records relating to permanently valuable records that have been accessioned into the National Archives of the United States.

Dated: March 6, 2003.
Michael J. Kurtz,
Assistant Archivist for Record Services—Washington, DC.

[FR Doc. 03-5831 Filed 3-11-03; 8:45 am]

BILLING CODE 7515-01-P